DEPARTMENT OF COMMERCE

National Oceanic and Atmospheric Administration

DEPARTMENT OF THE INTERIOR

Fish and Wildlife Service

[I.D. 091100I]

Notice of Availability of Final Environmental Impact Statement and Habitat Conservation Plan for Incidental Take

Permits for Plum Creek Timber Company and Their Subsidiaries in the States of Montana, Idaho and Washington

AGENCY: National Marine Fisheries Service (NMFS), National Oceanic and Atmospheric Administration, Commerce; Fish and Wildlife Service (FWS), Interior.

ACTION: Notice of availability.

SUMMARY: This notice announces the availability of a joint final Environmental Impact Statement (EIS) and Habitat Conservation Plan (HCP) relative to an Incidental Take Permit Application, intended to achieve the following: to protect, in accordance with the Federal Endangered Species Act (ESA), species listed as threatened or endangered, and to provide for sustained production of timber products, consistent with Federal and state laws, on lands owned by Plum Creek Timberlands, L. P., (and its partners Plum Creek Timber Company, Inc., and Plum Creek Timber I L. L.C., Plum Creek Marketing Inc., Plum Creek Land Company, Plum Creek Northwest Lumber, Inc., Plum Creek Northwest Plywood, Inc., and Plum Creek MDF, Inc., for Lands in Montana, Idaho, and Washington (hereafter collectively referred to as Plum Creek).

DATES: Decisions on the above actions will occur no sooner than October 22, 2000.

ADDRESSES:

Comments regarding the final EIS or HCP should be addressed to Ted Koch, Project Biologist, FWS, 1387 S. Vinnell Way, Room 368, Boise, Idaho 83709 (fax: 208/387-5262); or Bob Ries, Project Biologist, NMFS, 10215 W. Emerald St., Suite 180, Boise, Idaho 83704 (fax: 208/378-5699).

FOR FURTHER INFORMATION CONTACT: Ted Koch, Project Biologist, FWS, 1387 S. Vinnell Way, Room 368, Boise, Idaho 83709 (fax: 208/387-5262); or Bob Ries, Project Biologist, NMFS, 10215 W. Emerald St., Suite 180, Boise, Idaho 83704 (fax: 208/378-5699).

SUPPLEMENTARY INFORMATION: This notice advises the public that Plum Creek Timberlands, L.P. and associated companies identified above (Plum Creek) have submitted an application to the Fish and Wildlife Service and the National Marine Fisheries Service (together, the Services) for an Incidental Take Permit (Permit) pursuant to section 10(a)(1)(B) of the Endangered Species Act of 1973, as amended (Act). As required by section 10(a)(2)(B) of the Act, the applicant has also prepared an HCP designed to minimize and mitigate for any take of endangered or threatened species. The Permit application is related to forest management and other Plum Creek activities on approximately 1.7 million acres of Plum Creek land in western Montana, northern Idaho, and western Washington. Of the 1.7 million acres, approximately 90 percent occur in Montana, 5 percent occur in Idaho, and 5 percent occur in Washington.

Species Affected by the Permit

The proposed Permit would authorize the take of the following eight listed endangered or threatened species incidental to otherwise lawful activities: Columbia River distinct population segment (DPS) of bull trout (Salvelinus confluentus); Snake River steelhead evolutionarily significant unit (ESU) (Oncorhynchus mykiss); Mid-Columbia River steelhead ESU (Oncorhynchus mykiss); Lower Columbia River steelhead ESU (Oncorhynchus mykiss); Snake River spring/summer chinook salmon ESU (Oncorhynchus tshawytscha); Snake River fall chinook salmon ESU (Oncorhynchus tshawytscha); Lower Columbia River chinook salmon ESU (Oncorhynchus tshawytscha); Columbia River chum salmon ESU (Oncorhynchus keta).

Plum Creek is also seeking coverage for nine currently unlisted anadromous and resident fish under specific provisions of the Permit, should these species be listed in the future.

These species include: redband trout (Oncorhynchus mykiss); coastal rainbow trout (Oncorhynchus mykiss); westslope cutthroat trout (Oncorhynchus clarki lewisi); mountain whitefish (Prosopium williamsoni) pygmy whitefish (Prosopium coulteri); coastal cutthroat trout (Oncorhynchus clarki clarki), including the proposed Southwestern Washington/Columbia River coastal cutthroat trout DPS and populations above barriers; Upper Columbia River summer/fall chinook salmon ESU (Oncorhynchus tshawytscha); candidate Lower Columbia River/Southwest Washington coho salmon ESU (Oncorhynchus kisutch) and Mid-Columbia River spring chinook salmon ESU (Oncorhynchus tshawytscha). Six of the 17 covered species are resident fish species, and eleven are anadromous fish species or have an anadromous life history form. The duration of the proposed Permit and Plan is 30 years.

On December 12, 1997, a notice was published in the Federal Register (62 FR 65437) announcing the intent to prepare an EIS on the proposed issuance of incidental take permits under the Federal ESA, and inviting comments on the scope of the EIS. Comments were received and considered and were reflected in the draft EIS. By a Federal Register notice dated December 17, 1999 (64 FR 70695), the Services announced the availability for public review and comment of applications for Federal incidental take permits filed by Plum Creek under section 10(a) of the Federal ESA, as well as the availability of the draft EIS for public review and comment. The applications include a proposed HCP and a proposed Implementation Agreement (IA) that addressed species conservation and ecosystem management on approximately 1.7 million acres of land in Montana, Idaho, and Washington.

In a subsequent February 16, 2000, Federal Register notice (65 FR 7856), the Services announced that the public comment period on Plum Creek’s proposed HCP, scheduled to close on February 15, 2000, had been extended until March 17, 2000.

The Services received approximately 2,500 comments on the proposed HCP and draft EIS. Changes have been made to the documents in response to public comments and agency concerns.

The most notable changes are cited under the headings below.

Adaptive Management

The greatest number of issues addressed by changes in the Native Fish HCP (NFHCP) were related to adaptive management.

These changes include the following:

(1) Adding a significantly expanded and detailed description of the scientific studies to be conducted for effectiveness monitoring.

(2) Clarifying that adaptive management decisions are an equal partnership. This responds to the public's concern that Plum Creek was retaining “veto power” over deciding whether any changes to the plan would be made.

(3) Adding a new commitment to establish a process for adding Tier 1 watersheds for any Permit species.

(4) Providing a new commitment to monitor landslides.

Riparian

The next greatest number of issues were related to riparian management. Changes included the following:

(1) Improving 8 out of 9 commitments with more specific language.

(2) Adding more fish habitat protection for intermittent streams.

(3) Extending perennial stream measures to intermittent streams that flow through unstable features on the landscape.

(4) Adding measures to mitigate for impacts of stream side roads.

(5) Incorporating a limitation on clearcutting in Interface Caution Areas Roads.

The following changes were related to road management issues:

(1) Improving 5 out of 8 commitments with more specific language.

(2) Identifying specific watersheds for high priority treatment, and for Road Sediment Delivery Analyses.

(3) Incorporating a requirement to avoid building new roads on steep slopes.

(4) Developing a new, site-specific commitment to address landslide risk at Papoose Creek in the Lochsa River Planning Area basin.

Administration and Implementation

A few issues were related to administration and implementation of the NFHCP. The greatest of these was a concern whether the Services would have sufficient resources to participate in the adaptive management process once the Permit is issued. The following changes resulted from these issues:

(1) Improving 2 out of 6 commitments with more specific language to help ensure a self-implementing conservation plan.

(2) Developing a specific protocol for third party audits.

Financed by Plum Creek, this will provide objective oversight to verify compliance while streamlining the Services' involvement.

Additionally, although not resulting from any input received during the public comment process, there were a number of land parcels added or removed from HCP coverage because of Plum Creek land sales, purchases, and other environmental considerations that are reflected in the final EIS. The most significant change was the sale of more than half the lands in Idaho.

The final EIS analyzes the environmental impacts of the HCP submitted by Plum Creek and three alternatives to the HCP, including the “no action” alternative. The final EIS is intended to accomplish the following: (1) Inform the public of the final proposed action and alternatives; (2) address public comments received during the comment period; (3) disclose the direct, indirect, and cumulative environmental effects of the final proposed action and each of the alternatives; and (4) indicate any irreversible commitment of resources that would result from implementation of the final proposed action.

This notice is provided pursuant to section 102(2)(c) of the National Environmental Policy Act of 1969, as implemented by the Council on Environmental Quality regulations (40 CFR parts 1500 through 1508).

Additional Addresses

The FEIS will be available at the U.S. Fish and Wildlife Service, Snake River Basin Office website at http://www.fws.gov/r1srbo/SRBO/PlumCk.htm. Or, a hard copy or a copy on CD-ROM may be obtained by contacting Mr. Ted Koch, U.S.

Fish and Wildlife Service, 1387 S. Vinnell Way, Boise, Idaho 83709, (208) 378-5293.

Dated: September 12, 2000.
Anne Badgley,
Regional Director, Fish and Wildlife Service, Region 1, Portland, Oregon.
Dated: September 14, 2000.
Wanda Cain
Chief, Endangered Species Division, Office of Protected Resources, National Marine Fisheries Service.

[FR Doc. 00-24304 Filed 9-20-00; 8:45 am]

BILLING CODES 3510-22-S, 4310-55-S